ENVIRONMENTAL PROTECTION AGENCY

[FRL-7003-3]

Investigator-Initiated Grants: Request for Applications

AGENCY: U.S. Environmental Protection Agency.

ACTION: Notice of request for applications.

SUMMARY: This notice provides information on the availability of fiscal year 2001 investigator-initiated grants program announcements, in which the areas of research interest, eligibility and submission requirements, evaluation criteria, and implementation schedules are set forth. Grants will be competitively awarded following peer review.

DATES: Receipt dates vary depending on the specific research areas within the solicitations and are listed below.

FOR FURTHER INFORMATION CONTACT: U.S. Environmental Protection Agency, National Center for Environmental Research (8703R), 1200 Pennsylvania Avenue, NW., Washington DC 20460, telephone (800) 490-9194. The complete announcements can be accessed on the Internet from the EPA home page: http://www.epa.gov/ncerqa under “announcements.”

SUPPLEMENTARY INFORMATION: In its Requests for Applications (RFA) the U.S. Environmental Protection Agency (EPA) invites research grant applications in the following areas of special interest to its mission: (1) Mercury: Transport, Transformation, and Fate in the Atmosphere; (2) Corporate Environmental Behavior: Examining the Effectiveness of Government Interventions and Voluntary Initiatives; (3) Issues in Human Health Risk Assessment: Novel Mechanistic Approaches in Human Health Risk Assessment; (4) Health Effects of Chemical Contaminants in Drinking Water; and (5) Microbial Risk in Drinking Water. Applications must be received as follows: August 15, 2001, for topics (1) and (2); September 12, 2001, for topic (3); September 17, 2001, for topics (4) and (5). The RFAs provide relevant background information, summarize EPA's interest in the topic areas, and describe the application and review process.

Contact person for the Mercury RFA is William Stelz (stelz.william@epa.gov, telephone 202-564-6834. Contact person for the Corporate Environmental Behavior RFA, is Susan Carillo (carillo.susan@epa.gov), telephone 202-564-4664. Contact person for the Human Health Risk Assessment RFA is Chris Saint, telephone 202-564-6909 (saint.chris@epa.gov) or Nigel Fields, telephone 228-688-1981 (fields.nigel@epa.gov). Contact person for the Drinking Water RFAs is Maggie Breville, telephone 202-564-6893 (breville.maggie@epa.gov).

Dated: June 13, 2001.
Approved for publication:
Ann Akland,
Acting Assistant Administrator for Research and Development.

[FR Doc. 01-16571 Filed 6-29-01; 8:45 am]

BILLING CODE 6560-50-P